DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of September 21 through October 2, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) The workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of section 222(a)(2)(A) (increased imports) of the Trade Act have been met.

TA-W-70,070; Maverick Tube LLC, Doing Business as Tenarishickman, Blytheville, AR. May 18, 2008.

TA-W-70,142; United States Steel Corporation, Great Lakes Works, Great Lakes Recovery, Tube City, Ecorse, MI. May 18, 2008.

TA-W-70,245; Caye Upholstery, Inc., Caye Home Furnishings, LLC, New Albany, MS. May 18, 2008.

TA-W-70,292; BHP Copper Inc., Pinto Valley Operations & San Manuel Arizona Railroad Co., BHP Billiton Ltd, Miami, AZ. May 19, 2009.

TA-W-70,431; Marlo Electronics, Inc., Ft. Lauderdale, FL. May 19, 2008.

TA-W-70,675; Grove U.S., LLC, Manitowoc Crane Company, Inc. Advance, etc., Shady Grove, PA. May 20, 2008.

TA-W-70,689; Penn-Union Corporation, Advanced Placemane Services, Edinboro, PA. May 21, 2008.

TA-W-70,726; Newport Corporation, Photonics and Precision Technologies Div., Irvine, CA. May 21, 2008.

TA-W-71,662; TRW Integrated Chassis Systems, Div. of TRW Automotive/Leased Workers from ADECCO, Kelly, Aerotek Auto, Volt, Saginaw, MI. June 26, 2008.

TA-W-71,683; Sabic Innovative Plastics Mount Vernon, Sabic Innovative Plastics U.S., Mount Vernon, IN. July 13, 2008.

TA-W-71,711A; Superior Technical Resources, On-Site at OSRAM Sylvania, Lighting Div., St. Marys, PA. July 1, 2008.

TA-W-71,711; Osram Sylvania, Consumer Lighting Div./Superior Technical Resources, St. Marys, PA. July 1, 2008.

TA-W-71,798; Time Savers, Inc., Maple Grove, MN. July 21, 2008.

TA-W-71,877; American Furniture Manufacturing, Inc., Ecru, MS. July 29, 2008.

TA-W-70,049; Dan Draexlmaier Automotive North America LLC, Aerotek, Duncan, SC. May 18, 2008.

TA-W-71,328; Interdent Service Corporation, Billing and Collections Department, El Segundo, CA. June 11, 2008.

TA-W-71,462; Corporate Services Group, Inc., Colville, WA. June 29, 2008.

TA-W-70,004; Boralex Sherman, LLC, A Subsidiary of Boralex U.S. Development, Inc., Stacyville, ME. May 18, 2008.

TA-W-70,022; Wausau Paper Specialty Products, LLC, Specialty Products Division, Paper Machine 11, A Subsidiary of Wausau Paper, Jay, ME. May 18, 2008.

TA-W-70,043; Koch Originals, Inc., Evansville, IN. May 18, 2008.

TA-W-70,084; Vishay Intertechnology, Vishay Dale Electronics, Columbus, NE. May 18, 2008.

TA-W-70,113; Maine Wood Recycling, Inc., Ashland, ME. May 18, 2008.

TA-W-70,226; Egide USA, Inc., Cambridge, MD. May 19, 2008.

TA-W-70,247; Panel Crafters, Inc., White City, OR. May 18, 2008.

TA-W-70,265; Grayling ILevel-Weyerhaeuser Engineering Wood Products, Grayling, MI. May 18, 2008.

TA-W-70,284; Plains Cotton Cooperative Association, American Cotton Growers, Littlefield, TX. May 18, 2009.

TA-W-70,322; Steelscape, A Subsidiary of Bluescope Steel, Rancho Cucamonga, CA. May 18, 2008.

TA-W-70,328; Gaston Electronics, LLC, Leased Workers from American Staffing and Lincoln Staffing, Mount Holly, NC. May 18, 2008.

TA-W-70,596; Dietech North America, LLC, Roseville, MI. May 18, 2008.

TA-W-70,650; Tyco Electronics Corporation, Leased Workers from Kelly Services, Greensboro, NC. May 19, 2008.

TA-W-70,735; Arete Prime Products Inc., Converse, IN. May 28, 2008.

TA-W-70,767; Smurfit-Stone Container Corporation, Containerboard Mill Div./Leased Workers from Nelson Personnel, Puritan Cleaning and Securitas, Missoula, MT. May 26, 2008.

TA-W-70,848; Atwood Mobile Products, LLC, Antwerp/Spec-Tem Division, Antwerp, OH. May 29, 2008.

TA-W-70,937; Viscotec Automotive Products, LLC, Leased Workers From Catawba Valley Staffing, Morganton, NC. May 29, 2008.

TA-W-71,271; North American Hoganas High Alloys, LLC, North America Business, Manpower, At Work, Johnstown, PA. June 16, 2008.

TA-W-71,784; Mancor Indiana, Inc., Anderson, IN. July 22, 2008.

TA-W-71,800; Dana Holding Corporation, Light Vehicle Drive Div., Adecco, Aerotek, MSI, Orangeburg, SC. July 23, 2008.

TA-W-71,844; Clarcor Air Filtration Products, Inc., Workplace, Inc., Rockford, IL. July 28, 2008.

TA-W-71,910; Pacific Steel Casting, Leased Workers of Aerotek and Ledgent, Berkeley, CA. July 24, 2008.

TA-W-71,975; Parker Hannifin, Pneumatic Division North America, Canton, PA. July 27, 2008.

TA-W-72,072; Byer California, San Francisco, CA. August 11, 2008.

TA-W-70,551; Nabors Drilling USA, Williston, ND. May 19, 2008.

TA-W-70,142A; Great Lakes Recovery Systems, Inc., On-Site at U.S. Steel, Great Lakes Works, Ecorse, MI. May 18, 2009.

TA-W-70,142B; Tube City IMS, Inc., On Site at U.S. Steel Corp., Ecorse, MI. May 18, 2008.

TA-W-70,975A; B&C Corporation, Jr. Engineering Division, B & C Services, Barberton, OH. June 2, 2008.

TA-W-70,975; B&C Corporation, Jr. Wheel Div./Leased Workers of B&C Services, Inc., Norton, OH. June 2, 2008.

TA-W-70,250; Jagger Brothers, Inc., Springvale, ME. May 18, 2008.

TA-W-70,397; Weyerhaeuser NR Company, I Level, Emerson Veneer Division, Emerson, AR. May 19, 2008.

TA-W-70,691; Fairystone Fabrics, LLC, dba Fairystone Fabrics, Inc., Burlington, NC. May 19, 2008.

TA-W-71,981; Bailey Knit Corporation, Fort Payne, AL. August 5, 2008.

The following certifications have been issued. The requirements of section 222(a)(2)(B) (shift in production or services) of the Trade Act have been met.

TA-W-70,057; Rockwell Automation, Inc., Richland Center, WI. May 18, 2008.

TA-W-70,063; AIT, American Integrated Technologies, Pflugerville, TX. May 18, 2008.

TA-W-70,269; KGP Telecommunications, Inc., Express Personnel and Work Connection, Faribault, MN. May 18, 2008.

TA-W-70,316; O'Neal Steel, Inc., Leased Workers from Alpha Omega, Roanoke, VA. May 19, 2008.

TA-W-70,351; National Semiconductor Corporation, Arlington Manufacturing Site, GCA, CMPA, Arlington, TX. May 18, 2008.

TA-W-70,377; Morgan Advanced Materials and Technology, Inc., A Subsidiary of Morgan Crucible PLC, Coudersport, PA. May 20, 2008.

TA-W-70,408; DJ Fashions, LLC, New York, NY. May 8, 2008.

TA-W-70,430; UGL-Unnico, Northeast, Leased Workers at Fairchild Semiconductor, South Portland, ME. May 19, 2008.

TA-W-70,467; Fortis Plastics, LLC, Fort Smith, AR. May 20, 2008.

TA-W-70,504; Seagate Technology, LLC, Recording Head Operations, Leased workers from Spherion, Bloomington, MN. May 18, 2008.

TA-W-70,640; Leggett and Platt, Inc., Simpsonville, KY. May 19, 2008.

TA-W-70,647; Dana Holding Corporation, Sealing Products Division, Westaff, Robinson, IL. May 26, 2008.

TA-W-70,690; Nilfisk Advance, Inc., Plymouth, MN. May 19, 2008.

TA-W-70,834; Celerity, Inc., Leased Workers from Spherion, Austin, TX. May 28, 2008.

TA-W-70,838; The Berry Company LLC, Local Insight Media Holdings, Kelly Services, Office Team PSI, Dayton, OH. June 1, 2008.

TA-W-70,893; Alpha Sintered Metals, Inc., Ridgway, PA. June 1, 2008.

TA-W-70,927; Ingersoll-Rand, Security Technologies Div./Adecco, Colorado Springs, CO. June 1, 2008.

TA-W-71,075; Umicore Cobalt Specialty Materials, Umicore USA, Olsted Staffing, Wow Service, Richard, Maxton, NC. September 9, 2008.

TA-W-71,246; True Temper Sports, Inc., Amory, MS. June 8, 2008.

TA-W-71,369; Ramsey Technology, Division of Thermo Fisher Scientific, Leased Workers from Pro Staff, Adecco, Atlantis, etc., Coon Rapids, MN. June 23, 2008.

TA-W-71,447; Applied Materials, Inc., Leased Workers from ADECCO Employment Services, Aerotek, Inc., Austin, TX. June 25, 2008.

TA-W-71,519; Cooper-Standard Automotive, Inc., Cooper-Standard Holdings, Inc./Leased Workers from Robert Half Mgmt Resource, Novi, MI. June 30, 2008.

TA-W-71,586; Mars Petcare US, Inc., a Subsidiary of Mars, Inc., Vernon, CA. July 7, 2008.

TA-W-71,656; Datalogic Scanning, Inc., Selectemp, Express Personnel, Kelly Services, etc., Eugene, OR. July 10, 2008.

TA-W-71,659; Technicolor Business Group, Technicolor Home Entertainment Services Division, Camarillo, CA. July 6, 2008.

TA-W-71,671; Rockwell Automation, OES Div./Leased Workers from Volt, and Victory Personnel, Milwaukee, WI. July 8, 2008.

TA-W-71,679; Acu-Rite Companies, Inc., Jamestown, NY. July 10, 2008.

TA-W-71,720; Yanagawa of South Carolina, Inc., Olstein Staffing, Kelly Services, Performance Staffing, Manning, SC. July 6, 2008.

TA-W-71,754; RR Donnelley, Kelly Services, Spanish Fork, UT. July 17, 2008.

TA-W-71,761A; Tempstar, Weave Corporation, Denver, PA. July 15, 2008.

TA-W-71,761B; Weave Corporation, Hackensack, NJ. July 15, 2008.

TA-W-71,761C; Weave Corporation, New York, NY. July 15, 2008.

TA-W-71,761; Weave Corporation, Manufacturing Division, Denver, PA. July 27, 2009.

TA-W-71,767; General Electric Lighting-Ravenna Lamp Plant, Light Division, Leased Wkrs from Devore Technologies, Ravenna, OH. July 10, 2008.

TA-W-71,772; Hospira, Inc., Leased Wkrs from Kelly Services, Morgan Hill, CA. June 23, 2008.

TA-W-71,841; Vital Signs Minnesota, Inc., Masterson Personnel and MRCI Worksource, Burnsville, MN. July 29, 2008.

TA-W-71,853; Best Top Inc., Formerly known as Global Accessories Inc., Fremont, OH. August 19, 2008.

TA-W-71,866; Belden, Inc., Mohawk Division, Adecco Express, Robert Half, etc., Leominster, MA. July 29, 2008.

TA-W-71,896; Skyjack Manufacturing, Inc., Subsidiary of Skyjack, Inc., Emmetsburg, IA. July 31, 2008.

TA-W-71,913; Siemens Energy and Automation, Norwood Motor Facility, Leased Workers from Guidant, Norwood, OH. August 3, 2008.

TA-W-71,947; Luvata Franklin, Inc., ACR Tubes Division/Leased Wkrs from Robert Half Mgt. Resources, Franklin, KY. August 5, 2008.

TA-W-71,961; Caps Group Acquisition LLC, NK Graphics Division, Black Dot Group, West Chesterfield, NH. August 4, 2008.

TA-W-71,965; Pioneer Automotive Technologies, Inc., Springboro, OH. August 7, 2008.

TA-W-72,053; Allied Air Enterprises, Inc., Gallman Personnel Services, Blackville, SC. August 20, 2008.

TA-W-72,058; Gardner Denver, Thomas Products Div., Sheboygan, WI. August 13, 2008.

TA-W-72,126; Medtronic, Inc., Arizona Device Manufacturing, Kelly Project, Tempe, AZ. August 24, 2008.

TA-W-72,140; Par Springer-Miller Systems, Inc., Stowe, VT. August 18, 2008.

TA-W-72,190; Electronic Data Systems, a Hewlett-Packard Company, Capital Markets Segment, Applications and Financial Services Sector, Montvale, NJ. September 1, 2008.

TA-W-70,609; FMC Manufacturing, LLC, Midwest Motorcycle Supply, Monmouth, IL. May 22, 2008.

TA-W-70,720; BIC Consumer Products Manufacturing Company, Inc., a Subsidiary of BIC USA, Inc., Fountain Inn, SC. May 18, 2008.

TA-W-71,492; Cholestech Corporation, Inverness Medical Innovations, Leased Wkrs from Payrolling, TAC Worldwide, Hayward, CA. June 29, 2008.

TA-W-71,668; Permacel, Pleasant Prairie, WI. July 14, 2008.

TA-W-71,898; Kaiser Foundation Hospitals, KP-IT Division, Silver Spring, MD. July 31, 2008.

TA-W-72,046; The McClatchy Group, The Miami Herald Media Company, Collections Division, Miami, FL. August 13, 2008.

TA-W-70,576; AT&T Services, Inc., Performance Evaluation, APC Workforce Solutions, etc., Saginaw, MI. May 21, 2008.

TA-W-71,009; Experian, Marketing Services Division, Leased Workers from Tapfin, Lincoln, NE. June 3, 2008.

TA-W-71,310; Littelfuse, Inc., Corp. Resources, Ltd., Aerotek, Ernst & Young & Brooksource, Chicago, IL. June 18, 2008.

TA-W-71,366; Hewlett Packard Company, Enterprise Storage and Networks, Supply Chain Division, Boise, ID. May 19, 2008.

TA-W-71,475; Akzo Nobel Coatings, Inc., Car Refinishes, Color Div., Akzo Nobel, Leased Wkrs from Adecco Employment, Troy, MI. June 29, 2008.

TA-W-71,487A; Work Skills Corporation, Brighton, MI. June 17, 2008.

TA-W-71,487; Work Skills Corporation, Ypsilanti, MI. June 17, 2008.

TA-W-71,748; Jockey International, Inc., Carlisle, KY. July 20, 2008.

TA-W-71,794; Behr America, Inc., Troy, MI. July 15, 2008.

TA-W-71,846; ACS Consultant Company, Inc., Cheshire, CT. July 7, 2008.

TA-W-71,854; Infineon Technologies North America Corp., Wireless Solutions-Mobile Phone Platforms, Ultimate, Allentown, PA. June 24, 2008.

TA-W-71,855; Freescale Semiconductor, Technical Information Center, Inc., Tempe, AZ. July 23, 2008.

TA-W-70,547; Acxiom Corporation, Information Security Team, Downers Grove, IL. May 17, 2008.

TA-W-71,060; Carhartt, Inc., Marrowbone Sortation, Marrowbone, KY. June 6, 2008.

TA-W-71,775; Warner Brothers Entertainment, Warner Brothers Theatrical Enterprises, Burbank, CA. July 20, 2008.

TA-W-71,830; S&B Industry Technologies, L.P., Fort Worth, TX. July 22, 2008.

TA-W-71,876; Direct Brands, Terre Haute, IN. July 29, 2008.

TA-W-72,153; MedQuist, Inc., Including Workers throughout the United States, Mount Laurel, NJ. August 27, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,712; Cummings Filtration, Leased Workers from Alternative Management, Findlay, OH. May 27, 2008.

TA-W-70,060; Greif Brothers Services Corporation, Culloden, WV. May 18, 2008.

TA-W-70,116; Mullican Lumber Company, LP, a Sub. of Baillie Lumber Company, Employment, Ronceverte, WV. May 18, 2008.

TA-W-70,122; Oviso Manufacturing, Leased Workers from Aerotek, Concord, CA. May 18, 2008.

TA-W-70,350; Vin-Tex Sealers, Inc., Labor Network, Itasca, IL. May 18, 2008.

TA-W-70,370; Danfoss Scroll Technologies, LLC, Leased Wkrs from Firststaff, Arkadelphia, AR. May 18, 2008.

TA-W-70,376; Kaiser Aluminum Fabricated Products, LLC, Kaiser Aluminum-Greenwood Forge Div./Staff Source, Greenwood, SC. May 19, 2008.

TA-W-70,391; Consolidated Metco, Inc., Leased Workers from Friday's, Canton, NC. May 18, 2008.

TA-W-70,450; Derby Cellular Products, Inc., Derby, CT. May 20, 2008.

TA-W-70,488A; Xenia Manufacturing, Inc.—Olney, Olney, IL. May 18, 2008.

TA-W-70,488B; Xenia Manufacturing, Inc.—Flora, Flora, IL. May 18, 2008.

TA-W-70,488; Xenia Manufacturing, Inc., Xenia, IL. May 18, 2008.

TA-W-70,597; Metaldyne Corporation, Middleville Division/Leased Workers from Williamson Staffing, Middleville, MI. May 18, 2008.

TA-W-70,622; V & E Components, Inc., High Point, NC. May 18, 2008.

TA-W-70,774; Sychip Inc., Leased Workers from Adminstaff, Plano, TX. May 27, 2008.

TA-W-70,776; Ravenswood Rolled Products, a Subsidiary of Pechiney Metals, LLC, PSA Personnel, Ravenswood, WV. May 28, 2008.

TA-W-70,791; Pace Industries, FKA Est Company, Leased Wkrs from Seek Careers Staffing, Grafton, WI. May 27, 2008.

TA-W-71,139; Techne, Inc., a/b/c Techne Engineering, Leased Workers from Manpower, Inc., Scottsburg, IN. June 4, 2008.

TA-W-71,378A; BorgWarner Diversified Transmission Products, Leased Wkrs at BorgWarner Diversified Transmission Products, Muncie, IN. June 22, 2008.

TA-W-71,378; BorgWarner Diversified Transmission Products, Torqtransfer Systems Division, Muncie, IN. June 30, 2008.

TA-W-71,437; Imperial Fabricating of Washington, A Subsidiary of Accuride Corporation, Chehalis, WA. June 23, 2008.

TA-W-71,512; Allegheny Tool and Manufacturing Company, Inc., Meadville, PA. June 29, 2008.

TA-W-71,581; Global Engine Manufacturing Alliance, A Subsidiary of the Chrysler Group, LLC, Premier, Dundee, MI. July 6, 2008.

TA-W-71,867; Fortis Plastics, LLC, Booneville, MS. June 25, 2008.

TA-W-71,980; Montezuma Manufacturing, Cosma Int'l, Leased Workers from Temp Associates, Montezuma, IA. August 5, 2008.

TA-W-70,480; Auto Truck Transport, Portland, OR. May 20, 2008.

TA-W-70,697; Sunbelt Furniture Xpress, Hickory, NC. May 26, 2008.

TA-W-70,803; LT Logging, Eureka, MT. May 27, 2008.

TA-W-71,541; Minority Auto Handling Specialist, T.V. Minority Company, Fenton, MO. July 1, 2008.

TA-W-71,583; Data2Logistics, Grand Blanc, MI. June 30, 2008.

TA-W-71,648; Innovion Corporation, Chandler, AZ. July 8, 2008.

TA-W-71,762; A. Schadt Woodcarving and Design, High Point, NC. July 17, 2008.

TA-W-71,837; Texturing Services, Inc., Martinsville, VA. July 28, 2008.

TA-W-71,839A; Negevtech, Inc., Boise, ID. July 2, 2008.

TA-W-71,839B; Negevtech, Inc., c/o IMFT, Lehi, UT. July 2, 2008.

TA-W-71,839C; Negevtech, Inc., c/o Spansion, Inc., Austin, TX. July 2, 2008.

TA-W-71,839D; Negevtech, Inc., c/o Micron Technology, Inc., Manassas, VA. July 2, 2008.

TA-W-71,839; Negevtech, Inc., Santa Clara, CA. July 2, 2008

TA-W-72,027; Straightaway Fabrications, Ltd., Ashland, OH. August 12, 2008.

The following certifications have been issued. The requirements of Section 222(c) (downstream producer for a firm whose workers are certified eligible to apply for TAA) of the Trade Act have been met.

None.

The following certifications have been issued. The requirements of Section 222(f) (firms identified by the International Trade Commission) of the Trade Act have been met.

TA-W-72,259; DuPont Teijin Films, Schenkers Logistics, Inc., Florence, SC. September 9, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,625; Springs Window Fashions, LLC, Taylorsville, NC.

TA-W-71,818; Suntrust Bank, Inc., Suntrust Online (Call Center), Miami, FL.

TA-W-72,046A; The McClatchy Group, Call Center Division, Miami, FL.

The investigation revealed that the criteria under paragraphs (a)(2)(A)(i) (decline in sales or production, or both) and (a)(2)(B) (shift in production or services to a foreign country) of section 222 have not been met.

None.

The investigation revealed that the criteria under paragraphs (a)(2)(A) (increased imports) and (a)(2)(B) (shift in production or services to a foreign country) of section 222 have not been met.

TA-W-70,027; Ram Rod Industries, LLC, Prentice, Prentice, WI.

TA-W-70,104; Van Buren Pipe Corporation, North American Pipe Corporation (NAPCO), Van Buren, AR.

TA-W-70,109; Modern Woodcrafts, LLC, Lewiston, ME.

TA-W-70,201; Tivoly, Inc., Derby Line, VT.

TA-W-70,309; Mt. Vernon Mills-LaFrance Industries, LaFrance Industries, Defender Services, LaFrance, SC.

TA-W-70,375; Mohawk Industries, Inc., Residential Yarn Division, Calhoun Falls, SC.

TA-W-70,454; Graphite Engineering and Sales Company, Greenville, MI.

TA-W-70,591; Symmco, Inc., Leased Workers from Spherion, Sykesville, PA.

TA-W-70,663; Corning, Inc., Environmental Technologies Division, Christiansburg, VA.

TA-W-70,745; Fujicolor Processing Inc., Williamsport, MD.

TA-W-70,118; J.D.M. Import Company, Inc., Leased Workers from Prestige Employee Administrators, New York, NY.

TA-W-70,314; Jeld-Wen, Inc., Administration Division, Klamath Falls, OR.

TA-W-70,344; Atlantic Southeast Airlines, Skywest, Inc./Leased Workers of Delta Global Services, Inc., Fort Smith, AR.

TA-W-70,493; Hyatt Regency Albuquerque, Hyatt Hotels Corporation, Accounting Department, Albuquerque, NM.

TA-W-70,519; Blue Cross Blue Shield of Michigan, Blue Care Network, Detroit, MI.

TA-W-71,564; Bob King, Inc., d/b/a Bob King Mazda, Winston-Salem, NC.

TA-W-71,856; SER Enterprise, Webb City, MO.

TA-W-71,903; JP Morgan Chase and Company, JP Morgan Investment Banking, Global Corporate Financial Operations, New York, NY.

TA-W-72,287; Blue Cross Blue Shield of Michigan, Grand Rapids, MI.

TA-W-70,012; Sappi Fine Paper N.A., Westbrook, ME.

TA-W-70,406; Greenville Metals, Inc., Powder Division, Transfer, PA.

The investigation revealed that the criteria under paragraphs (b)(2) and (b)(3) (public agency acquisition of services from a foreign country) of section 222 have not been met.

TA-W-72,179; Licking County Department of Job and Family Service, Newark, OH.

The investigation revealed that criteria of Section 222(c)(2) have not been met. The workers' firm (or subdivision) is not a Supplier to or a Downstream Producer for a firm whose workers were certified as eligible to apply for TAA.

None.

I hereby certify that the aforementioned determinations were issued during the period of September 21 through October 2, 2009. Copies of these determinations are available for inspection in Room N-5428, U.S. Department of Labor, 200 Constitution Avenue, NW., Washington, DC 20210 during normal business hours or will be mailed to persons who write to the above address.

Dated: October 5, 2009.
Richard Church,
Certifying Officer, Division of Trade Adjustment Assistance .

[FR Doc. E9-27429 Filed 11-16-09; 8:45 am]

BILLING CODE 4510-FN-P